DEPARTMENT OF ENERGY

Federal Energy Regulatory Commission

[Docket No. RP03-256-002]

Honeoye Storage Corporation; Notice of Compliance Filing

April 16, 2003.

Take notice that on April 11, 2003, Honeoye Storage Corporation (Honeoye) tendered for filing as part of its FERC Gas Tariff, First Revised Volume 1A, Third Revised Sheet No. 96 and First Revised Sheet No. 96A, with an effective date of April 1, 2003.

Honeoye states that this filing is being made in response to a letter order dated March 28, 2003, which was issued by the Commission in Honeoye Storage Corporation's Docket Nos. RP03-256-000 and RP03-256-001. In that letter order, the Commission stated that it would accept Honeoye's proposed tariff modifications subject to the condition that Honeoye's right to impose carrier liens on defaulting shippers' gas in storage is limited by applicable law.

Honeoye states that its revised tariff sheet, Third Revised Sheet 96 conditions Honeoye's right to impose carrier liens in accordance with the letter order, and First Revised Sheet 96A makes a pagination change.

Honeoye states that copies of the filing are being mailed to Honeoye's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 23, 2003.

Magalie R. Salas,
Secretary.

[FR Doc. 03-9902 Filed 4-21-03; 8:45 am]

BILLING CODE 6717-01-P